DEPARTMENT OF ENERGY

Federal Energy Regulatory Commission

[Docket No. RC08-1-000]

Southeastern Power Administration; Notice of Filing

October 19, 2007.

Take notice that on October 15, 2007, Southeastern Power Administration (Southeastern) filed an appeal of the September 25, 2007 decision of the North American Electric Reliability Corporation (NERC) to include Southeastern Power Administration on the NERC compliance registry within the SERC Reliability Corporation for the function of transmission operator and resource planner. Southeastern states that it has the responsibility to market the electric power generated at reservoir projects owned and operated by the U.S. Army Corps of Engineers in the southeast and neither owns or operates a generation or transmission system. Southeastern asks the Commission to reverse the NERC's decision to register Southeastern as a transmission operator and resource planner.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 14, 2007.

Kimberly D. Bose,
Secretary.

[FR Doc. E7-21159 Filed 10-25-07; 8:45 am]

BILLING CODE 6717-01-P